Proclamation 10736 of April 30, 2024

Jewish American Heritage Month, 2024

By the President of the United States of America

A Proclamation

For centuries, the perseverance, hope, and unshakeable faith of the Jewish people have inspired people around the world. During Jewish American Heritage Month, we celebrate the immeasurable impact of Jewish values, contributions, and culture on our Nation's character and recommit to realizing the promise of America for all Jewish Americans.

In 1654, a small band of 23 Jewish refugees fled persecution abroad and sailed into the port of modern-day New York City. They fought for religious freedom, helping define one of the bedrock principles upon which our Nation was built. Jewish American culture has been inextricably woven into the fabric of our country. Jewish American suffragists, activists, and leaders marched for civil rights, women's rights, and voting rights. Jewish American scientists, doctors, and engineers have made scientific breakthroughs that define America as a land of possibilities. They have served our Nation in uniform, on the Nation's highest courts, and at the highest levels of my Administration. As public servants, artists, entertainers, journalists, and poets, they have helped write the story of America, making it—as Emma Lazarus' poem on the Statue of Liberty states—a home for the “huddled masses yearning to breathe free.”

As we celebrate the Jewish American community's contributions this month, we also honor their resilience in the face of a long and painful history of persecution. Hamas' brutal terrorist attack on October 7th against Israel marked the deadliest day for Jews since the Holocaust, resurfacing, including here in the United States, painful scars from millennia of antisemitism and genocide of Jewish people. Jews across the country and around the world are still coping with the trauma and horror of that day and the months since. Our hearts are with all the victims, survivors, families, and friends whose loved ones were killed, wounded, displaced, or taken hostage—including women and girls whom Hamas has subjected to appalling acts of rape and sexual violence.

As I said after Hamas' terror attack, my commitment to the safety of the Jewish people, the security of Israel, and its right to exist as an independent Jewish state is ironclad. The recent attack by Iran, firing a barrage of hundreds of missiles and drones at Israel, reminds us of the existential threats that Israel faces by adversaries that want nothing less than to wipe it off the map. Together with our allies and partners, the United States defended Israel, and we helped defeat this attack.

At the same time, my Administration is working around the clock to free the hostages who have been held by Hamas for over half a year; as I have said to their families, we will not rest until we bring them home. We are also leading international efforts to deliver urgently needed humanitarian aid to Gaza and an immediate ceasefire as part of a deal that releases hostages and lays the groundwork for an enduring two-state solution.

Here at home, too many Jews live with deep pain and fear from the ferocious surge of antisemitism—in our communities; at schools, places of worship, and colleges; and across social media. These acts are despicable and echo the worst chapters of human history. They remind us that hate never goes away—it only hides until it is given oxygen. It is our shared moral responsibility to forcefully stand up to antisemitism and to make clear that hate can have no safe harbor in America.

That is why I released the first-ever United States National Strategy to Counter Antisemitism and clarified the civil rights protections for Jews under Title VI of the Civil Rights Act of 1964. In addition, the Department of Education has launched investigations into antisemitism on college campuses, the Department of Justice is investigating and prosecuting hate crimes, and the Department of Homeland Security and the Federal Bureau of Investigation are focused on enhancing security in Jewish communities. We also secured the largest increase in funding ever for the physical security of nonprofits like synagogues, Jewish Community Centers, and Jewish schools. I appointed Deborah Lipstadt, a Holocaust expert, as the first-ever Ambassador-level Special Envoy to Monitor and Combat Antisemitism. Together, we are sending the message that, in America, evil will not win. Hate will not prevail. The venom and violence of antisemitism will not be the story of our time.

This Jewish American Heritage Month, we honor Jewish Americans, who have never given up on the promise of our Nation. We celebrate the contributions, culture, and values that they have passed down from generation to generation and that have shaped who we are as Americans. We remember that the power lies within each of us to rise together against hate, to see each other as fellow human beings, and to ensure that the Jewish community is afforded the safety, security, and dignity they deserve as they continue to shine their light in America and around the world.

NOW, THEREFORE, I, JOSEPH R. BIDEN JR., President of the United States of America, by virtue of the authority vested in me by the Constitution and the laws of the United States, do hereby proclaim May 2024 as Jewish American Heritage Month. I call upon all Americans to learn more about the heritage and contributions of Jewish Americans and to observe this month with appropriate programs, activities, and ceremonies.

IN WITNESS WHEREOF, I have hereunto set my hand this thirtieth day of April, in the year of our Lord two thousand twenty-four, and of the Independence of the United States of America the two hundred and forty-eighth.

[FR Doc. 2024-09813

Filed 5-2-24; 8:45 am]

Billing code 3395-F4-P